DEPARTMENT OF AGRICULTURE

Food Safety and Inspection Service

[Docket No. FSIS-2024-0002]

National Advisory Committee on Microbiological Criteria for Foods: Committee and Charter Renewal

AGENCY: Food Safety and Inspection Service, U.S. Department of Agriculture (USDA).

ACTION: Notice of intent to renew the Committee and its charter.

SUMMARY: In accordance with the Federal Advisory Committee Act, this notice is announcing the intention of the USDA to renew the committee for the National Advisory Committee on Microbiological Criteria for Foods (NACMCF) and its charter.

FOR FURTHER INFORMATION CONTACT: Dr. Kristal Southern, Designated Federal Officer, U.S. Department of Agriculture (USDA), Food Safety and Inspection Service (FSIS),1400 Independence Avenue SW, Room 1128, Washington, DC 20250-3700. Telephone number: (202) 937-4171. Email: NACMCF@usda.gov.

SUPPLEMENTARY INFORMATION:

Background

The NACMCF is a discretionary advisory committee that was established in 1988 by the Secretary of Agriculture after consulting with the Secretary of the U.S. Department of Health and Human Services in response to the recommendations of two external organizations. The National Academy of Sciences recommended an interagency approach to microbiological criteria since various federal, State, and local agencies are responsible for food safety. Also, the U.S. House of Representatives Committee on Appropriations made a similar recommendation in the Rural Development, Agriculture, and Related Agencies Appropriation Bill for fiscal year 1988.

The NACMCF provides impartial scientific advice and recommendations to the Secretary of Agriculture and the Secretary of Health and Human Services on public health issues relative to the safety and wholesomeness of the U.S. food supply, including the development of microbiological criteria and review and evaluation of epidemiological and risk assessment data and methodologies for assessing microbiological hazards in foods. The Committee also provides scientific advice and recommendations to the Departments of Commerce and Defense. The Under Secretary for Food Safety, USDA, Dr. Emilio Esteban, is the Committee Chair; the Acting Director of the Food and Drug Administration's Center for Food Safety and Applied Nutrition, Dr. Donald Prater, is the Vice-Chair; and Dr. Kristal Southern, FSIS, is the Designated Federal Officer and Director of the NACMCF Secretariat.

The charter for the NACMCF is available for viewing on the FSIS website at https://www.fsis.usda.gov/policy/advisory-committees/national-advisory-committee-microbiological-criteria-foods-nacmcf.

NACMCF documents and comments posted on the FSIS website are electronic conversions from a variety of source formats. In some cases, document conversion may result in character translation or formatting errors. The original document is the official, legal copy. In order to meet the electronic and information technology accessibility standards in Section 508 of the Rehabilitation Act, NACMCF may add alternate text descriptors for non-text elements (graphs, charts, tables, multimedia, etc.). These modifications only affect the internet copies of the documents.

Additional Public Notification

Public awareness of all segments of rulemaking and policy development is important. Consequently, FSIS will announce this Federal Register publication online through the FSIS web page located at: https://www.fsis.usda.gov/policy/federal-register-rulemaking/federal-register-notices. FSIS will also make copies of this publication available through the FSIS Constituent Update, which is used to provide information regarding FSIS policies, procedures, regulations, Federal Register notices, FSIS public meetings, and other types of information that could affect or would be of interest to our constituents and stakeholders. The Constituent Update is available on the FSIS web page. Through the web page, FSIS is able to provide information to a much broader, more diverse audience. In addition, FSIS offers an email subscription service that provides automatic and customized access to selected food safety news and information. This service is available at: https://www.fsis.usda.gov/news-events/news-press-releases/news-feeds-subscriptions. Options range from recalls to export information, regulations, directives, and notices. Customers can add or delete subscriptions themselves and have the option to password protect their accounts.

USDA Nondiscrimination Statement

In accordance with Federal civil rights law and USDA civil rights regulations and policies, the USDA, its agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident. Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English. To file a program discrimination complaint, complete the USDA Program Discrimination Complaint Form, AD-3027, found online at https://www.usda.gov/oascr/how-to-file-a-program-discrimination-complaint and at any USDA office or write a letter addressed to USDA and provide in the letter all of the information requested in the form. To request a copy of the complaint form, call (866) 632-9992. Submit your completed form or letter to USDA by:

(1) Mail: U.S. Department of Agriculture, Office of the Assistant Secretary for Civil Rights, 1400 Independence Avenue SW, Washington, DC 20250-9410; (2) fax: (202) 690-7442; or (3) email: program.intake@usda.gov.

USDA is an equal opportunity provider, employer, and lender.

Dated: February 7, 2024.
Egypt Simon,
Acting USDA Committee Management Officer.

[FR Doc. 2024-03185 Filed 2-14-24; 8:45 am]

BILLING CODE 3410-DM-P